ENVIRONMENTAL PROTECTION AGENCY

40 CFR Parts 52 and 70

[EPA-R07-OAR-2021-0416; FRL-10025-54-Region 7]

Air Plan Approval; Missouri; Revision to Emission Data, Emission Fees and Process Information Rule

AGENCY: Environmental Protection Agency (EPA).

ACTION: Proposed rule.

SUMMARY: The Environmental Protection Agency (EPA) is proposing approval of a State Implementation Plan (SIP) and Operating Permits Program revision submitted by the State of Missouri on May 25, 2021. These revisions update the listed emission reporting years and update the emissions fee for permitted sources as set by Missouri Statute from $48 per ton of air pollution emitted annually to $53 in calendar year 2021 and $55 per ton of air pollution emitted annually for emissions in calendar year 2022 and beyond; effective March 30, 2021.

DATES: Comments must be received on or before July 30, 2021.

ADDRESSES: You may send comments, identified by Docket ID No. EPA-R07-OAR-2021-0416 to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Jason Heitman, Environmental Protection Agency, Region 7 Office, Air Quality Planning Branch, 11201 Renner Boulevard, Lenexa, Kansas 66219; telephone number: (913) 551-7664; email address: heitman.jason@epa.gov.

SUPPLEMENTARY INFORMATION: Throughout this document “we,” “us,” and “our” refer to EPA.

Table of Contents

I. Written Comments

II. Background

III. What is being addressed in this document?

IV. Have the requirements for approval of a SIP and part 70 revision been met?

V. What action is the EPA proposing to take?

VI. Incorporation by reference

VII. Statutory and Executive Order Reviews

I. Written Comments

Submit your comments, identified by Docket ID No. EPA-R07-OAR-2021-0416, at https://www.regulations.gov. Once submitted, comments cannot be edited or removed from regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

II. Background

The EPA granted full approval of the Missouri Operating Permit Program effective June 13, 1997 (see 62 FR 26405). Under title 40 Code of Federal Regulations (CFR) 70.9(a) and (b), an approved state's title V operating permits program must require that the owners or operators of part 70 sources pay annual fees, or the equivalent over some other period, that are sufficient to cover the permit program costs and ensure that any fee required under 40 CFR 70.9 is used solely for permit program costs. The fee schedule must result in the collection and retention of revenues sufficient to cover the permit program implementation and oversight costs.

Missouri has determined that fee adjustments are needed to offset the effect of declining revenues and to maintain the solvency of the Missouri Air Pollution Control Program.

III. What is being addressed in this document?

The EPA is proposing to approve revisions to the Missouri State Implementation Plan (SIP) and title V Operating Permits Program, 10-6.110 “Reporting Emission Data, Emission Fees, and Process Information,” submitted to the EPA on May 25, 2021. Revisions to the program include updating emission reporting years and increasing the annual emission fee. The annual emission fee will increase from $48 per ton of air pollution emitted annually to $53 in calendar year 2021 and increase again to $55 per ton of air pollution emitted annually for emissions in calendar year 2022 and beyond; effective March 30, 2021.

IV. Have the requirements for approval of a SIP and part 70 revision been met?

The State submission has met the public notice requirements for SIP submissions in accordance with 40 CFR 51.102. The submission also satisfied the completeness criteria of 40 CFR part 51, appendix V. The state provided a public comment period for this Operating Permits Program and SIP revision from August 17, 2020, to October 1, 2020, and received one comment in support of the revison. The revision meets the substantive SIP requirements of the CAA, including section 110 and implementing regulations and is consistent with applicable EPA requirements in title V of the CAA and 40 CFR part 70.

V. What action is the EPA proposing to take?

The EPA is proposing to approve the state's revision to 10 C.S.R. 10-6.110 “Reporting Emission Data, Emission Fees, and Process Information”, submitted by the state of Missouri on May 25, 2021. This revision updates the emissions fee for permitted sources in section (3)(A) and the emission reporting years in Table 4 of section (4)(B), as set by Missouri Statute. Specifically, section (3)(A) revises the emission fees section, which is approved under the Operating Permits Program only, and updates the emissions fee for permitted sources as set by Missouri Statute from $48 per ton of air pollution emitted annually to $53 in calendar year 2021 and $55 per ton of air pollution emitted annually for emissions in calendar year 2022 and beyond; effective March 30, 2021. Additional information on the EPA's analysis can be found in the Technical Support Document (TSD) included in this docket.

We are processing this as a proposed action because we are soliciting comments. Final rulemaking will occur after consideration of any comments.

VI. Incorporation by Reference

In this document, the EPA is proposing to include regulatory text in an EPA final rule that includes incorporation by reference. In accordance with requirements of 1 CFR 51.5, the EPA is proposing to incorporate by reference the Missouri Regulation described in the proposed amendments to 40 CFR part 52 set forth below. The EPA has made, and will continue to make, these materials generally available through www.regulations.gov and at the EPA Region 7 Office (please contact the person identified in the FOR FURTHER INFORMATION CONTACT section of this preamble for more information).

VII. Statutory and Executive Order Reviews

Under the Clean Air Act (CAA), the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects

40 CFR Part 52

Environmental protection, Air pollution control, Incorporation by reference, Reporting and recordkeeping requirements.

40 CFR Part 70

Environmental protection, Administrative practice and procedure, Air pollution control, Intergovernmental relations, Operating permits, Reporting and recordkeeping requirements.

Dated: June 24,2021.
Edward H. Chu,
Acting Regional Administrator, Region 7.

For the reasons stated in the preamble, EPA proposes to amend 40 CFR parts 52 and 70 as set forth below:

PART 52—APPROVAL AND PROMULGATION OF IMPLEMENTATION PLANS

1. The authority citation for part 52 continues to read as follows:

Authority: 42 U.S.C. 7401 et seq.

Subpart AA-Missouri

2. In § 52.1320, the table in paragraph (c) is amended by revising the entry “10-6.110” to read as follows:

§ 52.1320 Identification of plan.

* * * * *

(c) * * *

EPA-Approved Missouri Regulations
Missouri citation | Title | State effective date | EPA approval date | Explanation
Missouri Department of Natural Resources
* * * * * * *
Chapter 6—Air Quality Standards, Definitions, Sampling and Reference Methods, and Air Pollution Control Regulations for the State of Missouri
* * * * * * *
10-6.110 | Reporting Emission Data, Emission Fees, and Process Information | 3/30/2021 | [Date of publication of the final rule in the Federal Register], [Federal Register citation of the final rule] | Section (3)(A), Emission Fees, has not been approved as part of the SIP.
* * * * * * *

* * * * *

PART 70—STATE OPERATING PERMIT PROGRAMS

3. The authority citation for part 70 continues to read as follows:

Authority: 42 U.S.C. 7401, et seq.

4. In appendix A to part 70 the entry for “Missouri” is amended by adding paragraph (jj) to read as follows:

Appendix A to Part 70—Approval Status of State and Local Operating Permits Programs

* * * * *

Missouri

* * * * *

(jj) The Missouri Department of Natural Resources submitted revisions to Missouri rule 10 CSR 10-6.110, “Reporting Emission Data, Emission Fees, and Process Information” on May 25, 2021. The state effective date is March 30, 2021. This revision is effective [date 60 days after date of publication of the final rule in the Federal Register].

* * * * *

[FR Doc. 2021-13992 Filed 6-29-21; 8:45 am]

BILLING CODE 6560-50-P